DEPARTMENT OF THE INTERIOR

Geological Survey

[GX24EN05ESBJF00]

Public Meeting of the Advisory Council for Climate Adaptation Science

AGENCY: U.S. Geological Survey, Department of the Interior.

ACTION: Notice of meeting.

SUMMARY: In accordance with the Federal Advisory Committee Act (FACA) of 1972, the U.S. Geological Survey (USGS) is publishing this notice to announce that a Federal advisory committee meeting of the Advisory Council for Climate Adaptation Science (ACCAS) will take place and is open to members of the public.

DATES: The meeting will be held in person on Tuesday, February 27, 2024, from 8:30 a.m. to 5 p.m., and on Wednesday, February 28, 2024, from 8:30 a.m. to 3 p.m. eastern standard time. A virtual option for attendance will be provided. The final schedule will be made available in advance of the meeting at: https://www.usgs.gov/programs/climate-adaptation-science-centers/advisory-council-climate-adaptation-science.

ADDRESSES: The meeting will be held at the Stewart Lee Udall Department of the Interior Building, 1849 C Street NW, Conference Room 5160, Washington, DC 20240.

FOR FURTHER INFORMATION CONTACT: Holly Chandler, ACCAS Designated Federal Officer, USGS, by email at casc@usgs.gov or by telephone at (406) 207-9500.

SUPPLEMENTARY INFORMATION: This meeting is being held consistent with the provisions of the FACA (5 U.S.C. ch. 10), the Government in the Sunshine Act of 1976 (5 U.S.C. 552B, as amended), and 41 CFR part 102-3.

Purpose of the Meeting: The ACCAS advises the Secretary of the Interior on the operations of the USGS Climate Adaptation Science Centers (CASCs). ACCAS members represent State and local governments; Tribes and Indigenous organizations; non-governmental organizations; academia; and the private sector. Additional information about the ACCAS is available at: https://www.usgs.gov/programs/climate-adaptation-science-centers/advisory-council-climate-adaptation-science.

Agenda Topics: Agenda topics will cover background information about the CASCs; the development of priorities and a workplan for the ACCAS; and discussion of possible ACCAS subcommittees. The final agenda will be made available in advance of the meeting at: https://www.usgs.gov/programs/climate-adaptation-science-centers/advisory-council-climate-adaptation-science. The meeting will include opportunities for public comment on February 27 and 28. Comments may also be submitted to ACCAS by email to casc@usgs.gov.

Meeting Accessibility/Special Accommodations: The meeting is open to the public; however, seating may be limited due to room capacity. A virtual option for attendance will be provided to those who register. Public attendees should register by completing this form: https://www.usgs.gov/programs/climate-adaptation-science-centers/advisory-council-climate-adaptation-science. Registrations are due by February 20, 2024.

Please make requests in advance for sign-language interpreter services, assistive listening devices, or other reasonable accommodations. We ask that you contact casc@usgs.gov at least seven (7) business days prior to the meeting to give the Department of the Interior sufficient time to process your request. All reasonable accommodation requests are managed on a case-by-case basis.

Individuals in the United States who are deaf, blind, hard of hearing, or have a speech disability may dial 711 (TTY, TDD, or TeleBraille) to access telecommunications relay services. Individuals outside the United States should use the relay services offered within their country to make international calls to the point-of-contact in the United States.

Public Disclosure of Comments: There will be an opportunity for public comment during the meeting. Depending on the number of people who wish to speak and the time available, the time for individual comments may be limited. Written comments may also be sent to the ACCAS for consideration. To allow for full consideration of information by ACCAS members, written comments must be provided by email to casc@usgs.gov at least three (3) business days prior to the meeting.

Before including your address, phone number, email address, or other personally identifiable information (PII) in your comment, you should be aware that your entire comment—including your PII—may be made publicly available at any time. While you may ask us in your comment to withhold your PII from public review, we cannot guarantee that we will be able to do so.

Authority: 5 U.S.C. ch. 10.

Holly A. Chandler,
Designated Federal Officer, Advisory Council for Climate Adaptation Science, U.S. Geological Survey.

[FR Doc. 2024-02210 Filed 2-2-24; 8:45 am]

BILLING CODE 4338-11-P